DEPARTMENT OF HOMELAND SECURITY

Coast Guard

33 CFR Part 165

[Docket No. USCG-2015-0554]

Safety Zones; Captain of the Port Boston Fireworks Display Zone, Boston Harbor, Boston, MA

AGENCY: Coast Guard, DHS.

ACTION: Notice of enforcement of regulation.

SUMMARY: The Coast Guard will enforce a safety zone in the Captain of the Port Boston Zone on the specified date and time listed below. This action is necessary to ensure the protection of the maritime public and event participants from the hazards associated with this annual recurring event. Under the provisions of our regulations, no person or vessel, except for the safety vessels assisting with the event may enter the safety zone unless given permission from the COTP or the designated on-scene representative. The Coast Guard may be assisted by other Federal, State, or local law enforcement agencies in enforcing this regulation.

DATES: The regulation for the safety zone described in 33 CFR 165.119(a)(3) will be enforced from 9:15 p.m. to 11:00 p.m. on Sunday, July 12, 2015.

FOR FURTHER INFORMATION CONTACT: If you have questions on this document, call or email Mr. Mark Cutter, Coast Guard Sector Boston Waterways Management Division, telephone 617-223-4000, email Mark.E.Cutter@uscg.mil.

SUPPLEMENTARY INFORMATION: The Coast Guard will enforce the safety zone listed in 33 CFR 165.119(a)(3); Fan Pier Safety Zone. All U.S. navigable waters of Boston inner Harbor within a 700-foot radius of the fireworks barge in approximate position 42°21′23.2″ N. 071°02′26″ W. (NAD 1983), located off of the Fan Pier, South Boston, MA.

This document is issued under authority of 33 CFR 165.119 and 5 U.S.C. 552(a). In addition to this document in the Federal Register, the Coast Guard will provide mariners with advanced notification of enforcement periods via the Local Notice to Mariners and Broadcast Notice to Mariners.

If the Captain of the Port determines that the regulated area need not be enforced for the full duration stated in this document, a Broadcast Notice to Mariners may be used to grant general permission to enter the regulated area.

Dated: June 22, 2015.
C.C. Gelzer,
Captain, U.S. Coast Guard, Captain of the Port Boston.

[FR Doc. 2015-16803 Filed 7-8-15; 8:45 am]

BILLING CODE 9110-04-P